ENVIRONMENTAL PROTECTION AGENCY

[EPA-HQ-OA-2008-0701; FRL-9495-01-OMS]

Information Collection Request Submitted to OMB for Review and Approval; Comment Request; Focus Groups as Used by EPA for Economics Projects (Renewal)

AGENCY: Environmental Protection Agency (EPA).

ACTION: Notice.

SUMMARY: The Environmental Protection Agency has submitted an information collection request (ICR), “Focus Groups as Used by EPA for Economics Projects (Renewal)” (EPA ICR Number 2205.22, OMB Control Number 2090-0028) to the Office of Management and Budget (OMB) for review and approval in accordance with the Paperwork Reduction Act. This is a proposed renewal of the ICR, which is currently approved through March 31, 2022. Public comments were previously requested via the Federal Register on September 29, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before February 25, 2022.

ADDRESSES: Submit your comments, referencing Docket ID Number EPA-HQ-OA-2008-0701, online using www.regulations.gov (our preferred method) or by mail to EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Nathalie Simon, Office of Policy, (MC 1809T), Environmental Protection Agency, 1200 Pennsylvania Ave. NW, Washington, DC 20460; telephone number: 202-566-2347; fax number: 202-566-2363; email address: simon.nathalie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Environmental Protection Agency (EPA) is seeking approval for a generic information collection request (ICR) for the conduct of focus groups and one-on-one interviews related to economics projects primarily for survey development. Focus groups are groups of individuals brought together for moderated discussions on a specific topic or issue. These groups are typically formed to gain insight and understanding of attitudes and perceptions held by the public surrounding an issue. One-on-one interviews, as the term implies, are individual interviews in which a respondent is generally asked to review materials and provide feedback on their content and design as well as the thought processes that the materials invoke.

Focus groups and one-on-one interviews (hereafter referred to collectively as “focus groups”) used as a qualitative research tool have three major purposes: (1) To better understand respondents' attitudes, perceptions and emotions in response to specific topics and concepts; (2) to obtain respondent information useful for better defining variables and measures in later quantitative studies; and (3) to further explore findings obtained from quantitative studies.

Through these focus groups, the Agency will be able to gain a more in-depth understanding of the public's attitudes, beliefs, motivations and feelings regarding specific issues and will provide invaluable information regarding the quality of draft survey instruments. Focus group discussions are necessary and important steps in the design of a quality survey.

Form Numbers: None.

Respondents/affected entities: Individuals/members of the public.

Respondent's obligation to respond: voluntary.

Estimated number of respondents: 1,089 (total).

Frequency of response: one-time.

Total estimated burden: 726 hours (per year). Burden is defined at 5 CFR 1320.03(b).

Total estimated cost: $21,150 (per year), includes $0 annualized capital or operation & maintenance costs.

Changes in the Estimates: There is decrease of 414 hours in the total estimated respondent burden compared with the ICR currently approved by OMB. This decrease is based on projected use estimates for new and continuing projects provided by program offices at EPA. A decrease in burden conveys simply that EPA anticipates less need for the conduct of focus groups under this ICR than in the past.

Courtney Kerwin,
Director, Regulatory Support Division.

[FR Doc. 2022-01472 Filed 1-25-22; 8:45 am]

BILLING CODE 6560-50-P